DEPARTMENT OF THE TREASURY

Submission for OMB Review; Comment Request

ACTION: Notice; correction.

SUMMARY: The Department of the Treasury published a document in the Federal Register on September 28, 2012, inviting comments on a proposed and/or continuing information collection, as required by the Paperwork Reduction Act of 1995, Public Law 104-13 (44 U.S.C. 3506(c)(2)(A)). This document contained incorrect references.

Correction

In the Federal Register of September 28, 2012, in FR Doc. 2012-23912, make the following corrections:

• Page 59706, in the third column, under OMB Number: 1545-1984; Type of Review:, replace “Extension without change” with “Revision”.

• Page 59706, in the third column, under Estimated Total Burden Hours, of OMB Number 1545-1984, replace “6,450,000” with “7,398,000”.

Dated: October 1, 2012.
Dawn D. Wolfgang,
Treasury PRA Clearance Officer.

[FR Doc. 2012-24534 Filed 10-4-12; 8:45 am]

BILLING CODE 4830-01-P